Title 3—

The President

Proclamation 9684 of December 7, 2017

National Pearl Harbor Remembrance Day, 2017

By the President of the United States of America

A Proclamation

On National Pearl Harbor Remembrance Day, we honor those who perished in defense of our homeland and the veterans who selflessly answered the call to freedom during World War II. In our Nation's history, few events have been as pivotal as the “date which will live in infamy.”

Seventy-six years ago today, on the morning of December 7, 1941, Japanese air and naval forces carried out an unprovoked surprise attack on American military installations in Oahu, Hawaii. Horrific sounds of war shattered that peaceful Sunday morning, and our Nation was forever changed. More than 2,400 Americans lost their lives, and more than 1,000 service members and civilians were wounded in the attack. This horrific act of aggression galvanized the Nation and propelled us into World War II. Americans would not awaken to another peaceful dawn for nearly 4 long years.

In our darkest hours, the greatness of America emerged. Throughout the long and difficult war, our citizens remained courageous and resilient. Thousands answered the call to arms, left family and loved ones behind, and embarked on long and onerous journeys to fight America's enemies abroad. On the home front, American industry, ingenuity, and innovation increased our warfighting capacity and helped turn the tide in both the Atlantic and the Pacific theaters. The war effort motivated soldier and civilian alike. Families and communities came together, sacrificing personal comfort and prosperity for the greater good. Our country also solidified partnerships with like-minded nations committed to the promise of freedom. The spirit and soul of our Nation were tested in the fires of adversity, and we emerged even more determined, confident, and resolute.

The USS Arizona Memorial in Honolulu, Hawaii, is a sacred resting place for many of the ship's 1,177 sailors and Marines who perished on that fateful December morning. Even though these American patriots are entombed in a watery grave within the sunken hull of a battleship, their names are etched into the marble wall in the structure above. Just last month the First Lady and I had the distinct honor of visiting this hallowed site to pay our respects to the American heroes that were taken from us on that infamous day. The rusted wreckage is a haunting and sober reminder of the sacrifice of these heroes and their families, while the iconic, striking white memorial stands as a somber reminder of what we lost and also what we must fight to preserve.

Today, a new generation of brave men and women in uniform stand ready to oppose any threat to our Nation and the civilized world. Though the decades have passed, we are careful to never forget the lessons of Pearl Harbor. Our Armed Forces must be strong and vigilant, prepared to fight and preserve all we hold dear. It is our greatest obligation—our most solemn duty—to ensure our Nation remains the land of the free and the home of the brave. The day after the attack on Pearl Harbor, President Franklin Roosevelt told the Congress that “With confidence in our Armed Forces—with the unbounding determination of our people—we will gain the inevitable triumph.” That confidence and determination is undiminished today as we combat the ever-changing threats to freedom.

On this National Pearl Harbor Remembrance Day, we pray for all who died on the island of Oahu that dreadful Sunday morning, and for those who perished around the world in the battles of World War II. May we never forget their bravery, their selflessness, and their sacrifice for the noble causes of liberty and peace.

The Congress, by Public Law 103-308, as amended, has designated December 7 of each year as “National Pearl Harbor Remembrance Day.”

NOW, THEREFORE, I, DONALD J. TRUMP, President of the United States of America, do hereby proclaim December 7, 2017, as National Pearl Harbor Remembrance Day. I encourage all Americans to observe this solemn day of remembrance and to honor our military, past and present, with appropriate ceremonies and activities. I urge all Federal agencies and interested organizations, groups, and individuals to fly the flag of the United States at half-staff in honor of those American patriots who died as a result of their service at Pearl Harbor.

IN WITNESS WHEREOF, I have hereunto set my hand this seventh day of December, in the year of our Lord two thousand seventeen, and of the Independence of the United States of America the two hundred and forty-second.

[FR Doc. 2017-26948

Filed 12-11-17; 11:15 am]

Billing code 3295-F8-P